DEPARTMENT OF HEALTH AND HUMAN SERVICES

Centers for Medicare & Medicaid Services

42 CFR Part 495

Standards for the Electronic Health Record Technology Incentive Program

CFR Correction

This rule is being published by the Office of the Federal Register to correct an editorial or technical error that appeared in the most recent annual revision of the Code of Federal Regulations.

In Title 42 of the Code of Federal Regulations, Parts 482 to End, revised as of October 1, 2021, revise § 495.22(e)(8)(i)(A)(2)(ii) to read as follows:

§ 495.22 Meaningful use objectives and measures for EPs, eligible hospitals, and CAHs for 2015 through 2018.

* * * * *

(e) * * *

(8) * * *

(i) * * *

(A) * * *

(2) * * *

(ii) In 2017 and 2018, more than 5 percent of unique patients seen by the EP during the EHR reporting period (or their authorized representatives) views, downloads or transmits their health information to a third party during the EHR reporting period.

* * * * *

[FR Doc. 2022-21193 Filed 9-28-22; 8:45 am]

BILLING CODE 0099-10-D